ENVIRONMENTAL PROTECTION AGENCY

[ER-FRL-8999-5]

Environmental Impacts Statements; Notice of Availability

Responsible Agency: Office of Federal Activities, General Information (202) 564-1399 or http://www.epa.gov/compliance/nepa/.

Weekly receipt of Environmental Impact Statements

Filed 10/03/2011 Through 10/07/2011

Pursuant to 40 CFR 1506.9.

Notice

Section 309(a) of the Clean Air Act requires that EPA make public its comments on EISs issued by other Federal agencies. EPA's comment letters on EIS are available at: http://www.epa.gov/compliance/nepa/eisdata.html.

EIS No. 20110341, Final EIS, FTA, NC, LYNX—Blue Line Extension Northeast Corridor Light Rail Project, Proposed Light Rail Extension from Center City Charlotte to I-485 near the Mecklenburg-Cabarrus County Line, Charlotte-Mecklenburg County, NC, Review Period Ends: 11/14/2011, Contact: Brian C. Smart 404-865-5607.

EIS No. 20110342, Draft Supplement, FHWA, CO, US 550 South Connection to US 160, Updated Information to US 160 from Durango to Bayfield, US Army COE Section 404 Permit, LaPlata County, CO, Comment Period Ends: 11/28/2011, Contact: Stephanie Gibson 720-963-3013.

EIS No. 20110343, Final EIS, FHWA, WI, Zoo Interchange Corridor Study, Interstate I-94, I-894, and U.S. Highway 45 (Zoo Interchange) 124th Street to 70th Street Lincoln Avenue to Burleigh Street, Milwaukee County, WI, Review Period Ends: 11/14/2011, Contact: Wesley Shemwell 608-829-7521.

EIS No. 20110344, Draft EIS, USA, HI, Programmatic—Pohakuloa Training Area (PTA), Proposed Modernization of Training Infrastructure to Construction and Operation of an Infantry Platoon Battle Area (IPBA), HI, Comment Period Ends: 11/28/2011, Contact: Lindy McDowell 210-466-1593.

EIS No. 20110345, Draft EIS, APHIS, 00, Glyphosate-Tolerant H7-1 Sugar Beets, Request for Nonregulated Status, United States, Comment Period Ends: 11/28/2011, Contact: Rebecca Stankiewicz Gabel, PhD 301-734-5603.

EIS No. 20110346, Final Supplement, USFS, NV, Martin Basin Rangeland Project, Updated Information on the Analysis on the Effects of Livestock Grazing on the Wilderness, Reauthorizing Grazing on Eight Existing Cattle and Horse Allotments: Bradshaw, Buffalo, Buttermilk, Granite Peak, Indian, Martin Basin, Rebel Creek, and West Side Flat Creek, Santa Rosa Ranger District, Humboldt-Toiyabe National Forest, NV, Review Period Ends: 11/14/2011, Contact: Vern Keller 775-355-5356.

EIS No. 20110347, Final EIS, BLM, CA, East County Substation/Tule Wind/Energia Sierra Juarez Gen-Tie Projects, Construction and Operation, Right-of-Way Grants, San Diego County, CA, Review Period Ends: 11/14/2011, Contact: Greg Thomsen 951-697-5237.

EIS No. 20110348, Final EIS, BR, CA, Upper Truckee River Restoration and Golf Course Reconfiguration Project, To Restore Natural Geomorphic Ecological Process, Lake Tahoe, EL Dorado County, CA, Review Period Ends: 11/14/2011, Contact: Doug Kleinsmith 916-978-5034.

Amended Notices

EIS No. 20110340, Draft EIS, BLM, CA, Withdrawn—Walker Ridge Wind Energy Generation Facility, Construction, Operation and Decommissioning of a Wind Energy Generation Facility of up to 70 megawatts, Lake and Colusa Counties, CA, Comment Period Ends: 11/21/2011, Contact: Joseph Vieira 719-852-6213.

Revision to FR Notice Published 10/07/2011: Officially.

Withdrawn by the preparing agency by letter dated 10/05/2011.

Dated: October 10, 2011.
Cliff Rader,
Acting Director, NEPA Compliance Division, Office of Federal Activities.

[FR Doc. 2011-26610 Filed 10-13-11; 8:45 am]

BILLING CODE 6560-50-P